NEIGHBORHOOD REINVESTMENT CORPORATION

Sunshine Act Meetings

TIME AND DATE: 2:00 p.m., Thursday, October 20, 2022.

PLACE: Via conference call.

STATUS: Parts of this meeting will be open to the public. The rest of the meeting will be closed to the public.

MATTERS TO BE CONSIDERED: Regular Board of Directors meeting.

The General Counsel of the Corporation has certified that in his opinion, one or more of the exemptions set forth in the Government in the Sunshine Act, 5 U.S.C. 552b(c)(2) and (4) permit closure of the following portion(s) of this meeting:

• Executive Session

Agenda

I. CALL TO ORDER

II. Sunshine Act Resolution To Proceed Without One Week Public Notice

III. Sunshine Act Approval of Executive (Closed) Session

IV. Executive Session Report From CEO

V. Executive Session: Report From CFO

VI. Executive Session: General Counsel Report

VII. NeighborWorks Compass—Future Planning Discussion

VIII. Recognition of Service for Governor Bowman

IX. Action Item Approval of Minutes

X. Action Item FY2022 HUD Housing Counseling Award

XI. Action Item Revised Whistleblower Policy

XII. Action Item Revised Code of Ethical Conduct

XIII. Discussion Item September 8, 2022 Audit Committee Report

XIV. Discussion Item Report from CIO

XV. Discussion Item FY2023 Corporate Scorecard

XVI. Discussion Item DC/NYC Office Relocation Status Update

XVII. Management Program Background and Updates

XVIII. Adjournment

PORTIONS OPEN TO THE PUBLIC: Everything except the Executive Session.

PORTIONS CLOSED TO THE PUBLIC: Executive Session.

CONTACT PERSON FOR MORE INFORMATION: Lakeyia Thompson, Special Assistant, (202) 524-9940; Lthompson@nw.org.

Lakeyia Thompson,
Special Assistant.

[FR Doc. 2022-22898 Filed 10-18-22; 11:15 am]

BILLING CODE 7570-02-P